AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington D.C. 20503. Copies of submission may be obtained by calling (202) 712-1365.

SUPPLEMENTARY INFORMATION: OMB Number: OMB 0412-0035.

Form Number: AID 1550-2.

Title: Private and Voluntary Organization Annual Return.

Type of Submission: Renewal.

Purpose: USAID is required to collect information regarding the financial support to private and voluntary organizations registered with the Agency. The information is used to determine the eligibility of PVOs to receive USAID funding.

Annual Reporting Burden:

Respondents: 442.

Total annual responses: 442.

Total annual hours requested: 1,320 hours.

Dated: April 6, 2000.
Joanne Paskar,
Chief, Information and Records Division, Office of Administrative Services, Bureau of Management.

[FR Doc. 00-9422 Filed 4-14-00; 8:45 am]

BILLING CODE 6116-01-M